DEPARTMENT OF THE INTERIOR

Bureau of Ocean Energy Management

[Docket No. BOEM-2018-0015; MMAA104000]

Notice of Intent to Prepare an Environmental Impact Statement for Vineyard Wind LLC's Proposed Wind Energy Facility Offshore Massachusetts

AGENCY: Bureau of Ocean Energy Management, Interior.

ACTION: Notice of Intent to prepare an Environmental Impact Statement.

SUMMARY: Consistent with the regulations implementing the National Environmental Policy Act (NEPA), the Bureau of Ocean Energy Management (BOEM) is announcing its intent to prepare an Environmental Impact Statement (EIS) for the approval of a Construction and Operations Plan (COP) submitted by Vineyard Wind LLC (Vineyard Wind) that would allow it to construct and operate an 800 megawatt (MW) wind energy facility offshore Massachusetts. This Notice of Intent (NOI) serves to announce the EIS scoping process for the Vineyard Wind COP.

DATES: Comments should be submitted no later than April 30, 2018. BOEM's scoping meetings will be held at the following dates and times. Please see the ADDRESSES section for the specific locations.

1. Monday, April 16, 2018, 5:00 p.m. to 8:00 p.m., New Bedford, Massachusetts.

2. Tuesday, April 17, 2018, 5:00 p.m. to 8:00 p.m., Martha's Vineyard, Massachusetts.

3. Wednesday, April 18, 2018, 11:00 a.m. to 2:00 p.m., Nantucket, Massachusetts.

4. Wednesday, April 18, 2018, 6:00 p.m. to 9:00 p.m., Hyannis, Massachusetts.

5. Thursday, April 19, 2018, 5:00 p.m. to 8:00 p.m., Kingston, Rhode Island.

ADDRESSES: Detailed information about the proposed wind energy facility, including the COP, can be found on BOEM's website at: https://www.boem.gov/Commercial-Wind-Leasing-Offshore-Massachusetts/. Comments can be submitted in any of the following ways:

1. In written form, delivered by hand or by mail, enclosed in an envelope labeled “Vineyard Wind COP EIS” and addressed to Program Manager, Office of Renewable Energy, Bureau of Ocean Energy Management, 45600 Woodland Road, Sterling, Virginia 20166. Comments must be received or postmarked no later than April 30, 2018; or

2. Through the regulations.gov web portal: Navigate to http://www.regulations.gov and search for Docket No. BOEM-2018-0015. Click on the “Comment Now!” button to the right of the document link. Enter your information and comment, then click “Submit.”

Pursuant to the regulations implementing the provisions of NEPA (42 U.S.C. 4321 et seq.), BOEM will hold public scoping meetings for the Vineyard Wind COP at the following places and times:

• New Bedford, Massachusetts; Monday, April 16, 2018; Fairfield Inn and Suites, Waypoint Event Center, Sealoft Room, 185 MacArthur Drive, New Bedford, Massachusetts 02740; Open House 5:00-8:00 p.m.; Presentation and Q&A 6:00 p.m.

• Martha's Vineyard, Massachusetts; Tuesday, April 17, 2018; Martha's Vineyard Hebrew Center, 130 Center Street, Vineyard Haven, Massachusetts 02568; Open House 5:00-8:00 p.m.; Presentation and Q&A 6:00 p.m.

• Nantucket, Massachusetts; Wednesday, April 18, 2018; Nantucket Middle School, Cafeteria, 10 Surfside Road, Nantucket, Massachusetts 02554; Open House 11:00 a.m.-2:00 p.m.; Presentation and Q&A 12:00 p.m.

• Hyannis, Massachusetts; Wednesday, April 18, 2018; Double Tree Hotel, 287 Iyannough Road, Cape Cod Room, Hyannis, Massachusetts 02601; Open House 6:00-9:00 p.m.; Presentation and Q&A 6:30 p.m.

• Kingston, Rhode Island; Thursday, April 19, 2018; University of Rhode Island, Ryan Center, Alumni Lounge, 1 Lincoln Almond Plaza, Kingston, Rhode Island 02881; Open House 5:00-8:00 p.m.; Presentation and Q&A 6:00 p.m.

FOR FURTHER INFORMATION CONTACT: For information on the Vineyard Wind COP EIS, the submission of comments, or BOEM's policies associated with this notice, please contact Michelle Morin, BOEM Office of Renewable Energy Programs, 45600 Woodland Road, Sterling, Virginia 20166, (703) 787-1340 or michelle.morin@boem.gov.

Proposed Action: The proposed action is the construction and operation of a wind energy facility as described in the COP submitted by Vineyard Wind on Lease Area OCS-A 0501. In its COP, Vineyard Wind is proposing the construction, operation, and eventual decommissioning of an 800MW facility, potentially constructed in two 400 MW phases up to five years apart. Vineyard Wind's COP proposes installing up to 106 wind turbine generators, each with a capacity of between 8 and 10 MW. Foundations would likely be monopoles, jackets, or a combination of both. The proposed facility would also include two to four offshore substations or electrical service platforms. The potential export cable landfalls identified by Vineyard Wind include sites near the towns of Yarmouth, Barnstable, and Nantucket in the Commonwealth of Massachusetts. On-shore construction and staging would take place at the New Bedford Marine Commerce Terminal facility. At its nearest point, the project area is approximately 14 miles from the southeast corner of Martha's Vineyard and a similar distance from the southwest side of Nantucket. Water depths where the turbines would be located range from approximately 37 to 49 meters (approximately 121 to 161 feet).

Once BOEM completes the EIS and associated consultations, BOEM will decide whether to approve, approve with modification, or disapprove the Vineyard Wind COP. If BOEM approves the COP and the proposed facility is constructed, the lessee must submit a plan to decommission the facilities prior to the end of the lease term.

Scoping Process: This NOI commences the public scoping process for identifying issues and potential alternatives for consideration in the Vineyard Wind COP EIS. Throughout the scoping process, Federal agencies, state, tribal, and local governments, and the general public have the opportunity to help BOEM determine significant resources and issues, impact-producing factors, reasonable alternatives (e.g., size, geographic, seasonal, or other restrictions on construction and siting of facilities and activities), and potential mitigation measures to be analyzed in the EIS, as well as provide additional information. BOEM will also use the NEPA commenting process to initiate the Section 106 consultation process under the National Historic Preservation Act (54 U.S.C. 300101 et seq.), as permitted by 36 CFR 800.2(d)(3). Through this notice, BOEM additionally intends to inform its Section 106 consultation by seeking public comment and input regarding the identification of historic properties or potential effects to historic properties from activities associated with approval of the Vineyard Wind COP.

BOEM's scoping meetings will be held at the places and times listed in the ADDRESSES section of this notice.

Cooperating Agencies: BOEM invites other Federal agencies and state, tribal, and local governments to consider becoming cooperating agencies in the preparation of its EIS analyzing the proposed Vineyard Wind COP. According to Council on Environmental Quality (CEQ) guidelines, qualified agencies and governments are those with “jurisdiction by law or special expertise.” Potential cooperating agencies should consider their authority and capacity to assume the responsibilities of a cooperating agency, and should be aware that an agency's role in the environmental analysis neither enlarges nor diminishes the final decision-making authority of any other agency involved in the NEPA process. Upon request, BOEM will provide potential cooperating agencies with a written summary of expectations for cooperating agencies, including time schedules and critical action dates, milestones, responsibilities, scope and detail of cooperating agencies' contributions, and availability of pre-decisional information. BOEM anticipates this summary will form the basis for a Memorandum of Agreement between BOEM and any cooperating agency. Agencies should also consider the “Factors for Determining Cooperating Agency Status” in Attachment 1 to CEQ's January 30, 2002, Memorandum for the Heads of Federal Agencies: Cooperating Agencies in Implementing the Procedural Requirements of the National Environmental Policy Act. This document is available on the internet at: http://energy.gov/sites/prod/files/nepapub/nepa_documents//G-CEQ-CoopAgenciesImplem.pdf. BOEM, as the lead agency, will not provide financial assistance to cooperating agencies.

Even if a governmental entity is not a cooperating agency, it will have opportunities to provide information and comments to BOEM during the public input stages of the NEPA process.

Comments: Federal agencies, tribal, state, and local governments, and other interested parties are requested to comment on the scope of this EIS, significant issues that should be addressed, and alternatives that should be considered. Comments can be submitted in any of the following ways:

1. In written form, delivered by hand or by mail, enclosed in an envelope labeled “Vineyard Wind COP EIS” and addressed to Program Manager, Office of Renewable Energy, Bureau of Ocean Energy Management, 45600 Woodland Road, Sterling, Virginia 20166. Comments must be received or postmarked no later than April 30, 2018; or

2. Through the regulations.gov web portal: Navigate to http://www.regulations.gov and search for Docket No. BOEM-2018-0015. Click on the “Comment Now!” button to the right of the document link. Enter your information and comment, then click “Submit.”

BOEM does not consider anonymous comments. Please include your name and address as part of your submittal. BOEM makes all comments, including the names and addresses of respondents, available for public review during regular business hours. Individual respondents may request that BOEM withhold their names and/or addresses from the public record; however, BOEM cannot guarantee that it will be able to do so. If you wish your name and/or address to be withheld, you must state your preference prominently at the beginning of your comment. All submissions from organizations or businesses and from individuals identifying themselves as representatives or officials of organizations or businesses will be made available for public inspection in their entirety.

Authority: This NOI is published pursuant to the regulations (40 CFR 1501.7) implementing the provisions of NEPA.

Dated: March 27, 2018.
Walter D. Cruickshank,
Acting Director, Bureau of Ocean Energy Management.

[FR Doc. 2018-06638 Filed 3-29-18; 8:45 am]

BILLING CODE 4310-MR-P